SMALL BUSINESS ADMINISTRATION

[Declaration of Disaster #3452]

State of Louisiana (Amendment # 5)

In accordance with a notice received from the Federal Emergency Management Agency, dated December 13, 2002, the above numbered declaration is hereby amended to extend the deadline for filing applications for physical damages as a result of this disaster to January 3, 2003.

All other information remains the same, i.e., the deadline for filing applications for economic injury is July 3, 2003.

(Catalog of Federal Domestic Assistance Program Nos. 59002 and 59008).
Dated: December 17, 2002.
Herbert L. Mitchell,
Associate Administrator for Disaster Assistance.

[FR Doc. 02-32278 Filed 12-23-02; 8:45 am]

BILLING CODE 8025-01-P